MORRIS K. UDALL AND STEWART L. UDALL FOUNDATION

Sunshine Act Meetings

TIME AND DATE: 8:30 a.m. to 12:30 p.m., Tuesday, May 22, 2012.

PLACE: JW Marriott Starr Pass, 3800 W. Starr Pass Boulevard, Tucson, Arizona 85745.

STATUS: This meeting will be open to the public, unless it is necessary for the Board to consider items in executive session.

MATTERS TO BE CONSIDERED: (1) Program reports; (2) management committee report; (3) Parks in Focus Program report; (4) financial scenarios report; (5) Board governance and (6) personnel matters.

PORTIONS OPEN TO THE PUBLIC: All agenda items except as noted below.

PORTIONS CLOSED TO THE PUBLIC: Executive session to review personnel matters.

CONTACT PERSON FOR MORE INFORMATION: Ellen K. Wheeler, Executive Director, 130 South Scott Avenue, Tucson, AZ 85701, (520) 901-8500.

Dated: May 7, 2012.
Ellen K. Wheeler,
Executive Director, Morris K. Udall and Stewart L. Udall Foundation, and Federal Register Liaison Officer.

[FR Doc. 2012-11455 Filed 5-14-12; 8:45 am]

BILLING CODE 6820-FN-M